DEPARTMENT OF COMMERCE

International Trade Administration

Initiation of Antidumping Duty Administrative Review

AGENCY: Import Administration, International Trade Administration, Department of Commerce.

SUMMARY: The Department of Commerce (the Department) has received requests to conduct an administrative review of one antidumping duty order with a January anniversary date, the antidumping duty order on wooden bedroom furniture from the People's Republic of China (PRC). The Department received no other requests to conduct administrative reviews of antidumping or countervailing duty orders or findings with a January anniversary date. In accordance with the Department's regulations, we are initiating this administrative review.

EFFECTIVE DATE: February 26, 2009.

FOR FURTHER INFORMATION CONTACT: Jeffrey Pedersen or Drew Jackson, AD/CVD Operations, Office 4, Import Administration, International Trade Administration, U.S. Department of Commerce, 14th Street and Constitution Avenue, N.W., Washington, DC 20230, telephone: (202) 482-2769 or (202) 482-4406, respectively.

SUPPLEMENTARY INFORMATION:

Background

The Department received timely requests, in accordance with 19 CFR 351.213(b), for an administrative review of the antidumping duty order on wooden bedroom furniture from the PRC (administrative review of wooden bedroom furniture) covering multiple entities. The Department is now initiating an administrative review of the order covering those entities.

Notice of No Sales

Under 19 CFR 351.213(d)(3), the Department may rescind a review where there are no exports, sales, or entries of subject merchandise during the relevant period of review (POR) listed below. If a producer or exporter named in this notice of initiation had no exports, sales, or entries during the POR, it should notify the Department of this fact by the due date for responding to the Department's Quantity and Value Questionnaire (“Q&V”). See http://ia.ita.doc.gov/download/prc-wbf/index.html for a copy of the Q&V questionnaire. The Department will consider rescinding the review only if the producer or exporter, as appropriate, submits a properly filed and timely statement certifying that it had no exports, sales, or entries of subject merchandise during the POR.¹ All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street and Constitution Avenue, NW, Washington, DC 20230. Further, in accordance with 19 CFR 351.303(f)(1)(i), a copy of each request must be served on every party on the Department's service list.

¹ Producers or exporters may also fulfill this requirement by submitting a properly filed and timely Q&V questionnaire response that indicates that the entity or entities had no exports, sales, or entries of subject merchandise during the POR.

Respondent Selection

Section 777A(c)(1) of the Act directs the Department to calculate individual dumping margins for each known exporter and producer of the subject merchandise. Where it is not practicable to examine all known producers/exporters of subject merchandise, section 777A(c)(2)(B) of the Act permits the Department to examine exporters and producers accounting for the largest volume of the subject merchandise from the exporting country that can be reasonably examined. Due to the large number of firms for which an administrative review of wooden bedroom furniture has been requested, and the Department's experience regarding the resulting administrative burden of reviewing each company for which a request has been made, the Department is considering exercising its authority to limit the number of respondents selected for review in accordance with the Act.

In the event that the Department limits the number of respondents for individual examination in the administrative review of wooden bedroom furniture, the Department intends to select respondents based on information obtained from the companies requested for review regarding their exports or shipments to the United States of wooden bedroom furniture during the period January 1, 2008, through December 31, 2008. Therefore, in advance of the issuance of the antidumping questionnaire, we will be requiring all parties for whom a review has been requested to respond to a Q&V questionnaire. The Department will send Q&V questionnaires to the companies named in this initiation notice. In addition, the Q&V questionnaire will be available on the Department's website at http://ia.ita.doc.gov/download/rc-wbf/index.html on the date of publication of this notice. The responses to the Q&V questionnaire must be received by the Department by the due date listed in the questionnaire. Please be advised that due to the time constraints imposed by the statutory and regulatory deadlines for antidumping duty administrative reviews, the Department may not grant any extensions for the submission of responses to the Q&V questionnaire.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by the Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the antidumping duty administrative review of wooden bedroom furniture from the PRC must timely file a Q&V questionnaire response, and timely file, as appropriate, either a separate-rate application or certification, as described below. Entities for which a review was requested and that were assigned a separate rate in the most recently completed segment of this proceeding in which they participated must timely file a Q&V questionnaire response and certify that they continue to meet the criteria for obtaining a separate rate. The Separate-Rate Certification Form will be available on the Department's website at http://ia.ita.doc.gov/nme/nme-sep-rate.html on the date of publication of this Federal Register notice. In responding to the certification, please follow the “Instructions for Filing the Certification” in the Separate-Rate Certification. Separate-Rate Certifications must be received by the Department no later than 30 calendar days after publication of this Federal Register notice. The deadline and requirement for submitting a Certification applies equally to NME-owned firms, wholly foreign-owned firms, and foreign sellers who purchase and export subject merchandise to the United States.

Entities that currently do not have a separate rate from a completed segment of this proceeding must timely file a Q&V questionnaire response and a Separate-Rate Status Application to demonstrate eligibility for a separate rate in this proceeding. The Separate-Rate Status Application will be available on the Department's website at http://ia.ita.doc.gov/nme/nme-sep-rate.html on the date of publication of this Federal Register notice. In responding to the Separate Rate-Status Application, refer to the instructions contained in the application. Separate-Rate Status Applications must be received by the Department no later than 60 calendar days after publication of this Federal Register notice. The deadline and requirement for submitting a Separate-Rate Status Application applies equally to NME-owned firms, wholly foreign-owned firms, and foreign sellers that purchase and export subject merchandise to the United States.

Notification

This notice constitutes public notification to all firms for which an administrative review of wooden bedroom furniture has been requested and that are seeking separate rate status in that review, that they must submit a Separate-Rate Status Application or Certification (as appropriate) as described above, and a complete response to the Q&V questionnaire within the time limits established in this notice of initiation of administrative review in order to receive consideration for separate-rate status. In other words, the Department will not give consideration to any Separate-Rates Certification or Separate-Rate Status Application made by parties who fail to timely respond to the Q&V questionnaire or fail to timely submit the requisite Separate-Rate Certification or Application. All information submitted by respondents in this administrative review is subject to verification. Please be advised that due to the time constraints imposed by the statutory and regulatory deadlines for antidumping duty administrative reviews, the Department may not grant any extensions of the deadlines for these submissions. As noted above, the Separate-Rate Certification, the Separate-Rate Status Application, and the Q&V questionnaire will be available on the Department's website on the date of publication of this notice in the Federal Register. The Separate-Rate Certification and the Separate-Rate Status Application will be available on the Department's website at http://ia.ita.doc.gov/nme/nme-sep-rate.html. The Q&V questionnaire will be available on the Department's website at http://ia.ita.doc.gov/download/prc-wbf/index.html.

Initiation of Review:

In accordance with 19 CFR 351.221(c)(1)(i), we are initiating an administrative review of the following antidumping duty order. We intend to issue the final results of this review not later than January 31, 2010.

Antidumping Duty Proceedings | Period to be Reviewed
The People's Republic of China: | 1/1/08 - 12/31/08
Wooden Bedroom Furniture²
A-570-890
² If one of the named companies does not qualify for a separate rate, all other exporters of wooden bedroom furniture from the PRC that have not qualified for a separate rate are deemed to be covered by this review as part of the single PRC entity of which the named exporters are a part.

• Ace Furniture & Crafts Ltd. (a.k.a. Deqing Ace Furniture and Crafts Limited)

• Alexandre International Corp.,* Southern Art Development Ltd.,* Alexandre Furniture (Shenzhen) Co., Ltd.,* Southern Art Furniture Factory*

• Art Heritage International, Ltd.,* Super Art Furniture Co., Ltd.,* Artwork Metal & Plastic Co., Ltd.,* Jibson Industries Ltd.,* Always Loyal International*

• Asia Building Materials Limited

• Baigou Crafts Factory of Fengkai*

• Best King International Ltd.*

• Billy Wood Industrial (Dong Guan) Co., Ltd.,* Great Union Industrial (Dongguan) Co., Ltd.,* Time Faith Ltd.*

• BNBM Co., Ltd. (aka Beijing New Materials Co., Ltd.)*

• Brother Furniture Manufacture Co., Ltd.

• C.F. Kent Co., Inc., C.F. Kent Hospitality, Inc., Shanghai Kent Furniture Co., Ltd., Shanghai Hospitality Product Mfg., Co., Ltd.

• Changshu HTC Import & Export Co., Ltd.*

• Cheng Meng Furniture (PTE) Ltd.,* Cheng Meng Decoration & Furniture (Suzhou) Co., Ltd.*

• Chuan Fa Furniture Factory*

• Classic Furniture Global Co., Ltd.*

• Clearwise Co., Ltd.*

• COE Ltd.*

• Contact Co., Ltd.

• Dalian Guangming Furniture Co., Ltd.*

• Dalian Huafeng Furniture Co., Ltd.*

• Dalian Pretty Home Furniture*

• Decca Furniture Ltd., aka Decca*

• Denny's Furniture Associates Corp., Denny's International Co., Ltd.

• Der Cheng Wooden Works of Factory*

• Der Cheng Wooden Works, Der Cheng Furniture Co., Ltd.

• Dong Guan Golden Fortune Houseware Co., Ltd.*

• Dongguan Bon Ten Furniture Co., Ltd.*

• Dongguan Cambridge Furniture Co.,* Glory Oceanic Co., Ltd.*

• Dongguan Chunsan Wood Products Co., Ltd.,* Trendex Industries Ltd.*

• Dongguan Creation Furniture Co., Ltd.,* Creation Industries Co., Ltd.*

• Dongguan Dihao Furniture Co., Ltd.*

• Dongguan Grand Style Furniture Co. Ltd.,* Hong Kong Da Zhi Furniture Co., Ltd.*

• Dongguan Great Reputation Furniture Co., Ltd.*

• Dongguan Hero Way Woodwork Co., Ltd.,* Dongguan DaZhong Woodwork Co., Ltd.,* Hero Way Enterprises Ltd.,* Well Earth International Ltd.*

• Dongguan Hua Ban Furniture Co., Ltd.*

• Dongguan Hung Sheng Artware Products Co., Ltd.,* Coronal Enterprise Co., Ltd.*

• Dongguan Kin Feng Furniture Co., Ltd.*

• Dongguan Kingstone Furniture Co., Ltd.,* Kingstone Furniture Co., Ltd.*

• Dongguan Landmark Furniture Products Ltd.*

• Dongguan Liaobushangdun Huada Furniture Factory,* Great Rich (HK) Enterprise Co. Ltd.*

• Dongguan Lung Dong Furniture Co., Ltd.,* Dongguan Dong He Furniture Co., Ltd.*

• Dongguan Mingsheng Furniture Co., Ltd.*

• Dongguan Mu Si Furniture Co., Ltd.*

• Dongguan New Technology Import & Export Co., Ltd.*

• Dongguan Qingxi Xinyi Craft Furniture Factory (Joyce Art Factory)

• Dongguan Singways Furniture Co., Ltd.*

• Dongguan Sundart Timber Products Co., Ltd.

• Dongguan Sunpower Enterprise Co., Ltd.*

• Dongguan Sunrise Furniture Co.,* Taicang Sunrise Wood Industry Co., Ltd.,* Shanghai Sunrise Furniture Co., Ltd.,* Fairmont Designs*

• Dongguan Sunshine Furniture Co., Ltd.

• Dongguan Yihaiwei Furniture Limited*

• Dongying Huanghekou Furniture Industry Co., Ltd.*

• Dream Rooms Furniture (Shanghai) Co., Ltd.*

• Eurosa (Kunshan) Co., Ltd.,* Eurosa Furniture Co., (PTE) Ltd.*

• Ever Spring Furniture Co. Ltd.,* S.Y.C Family Enterprise Co., Ltd.*

• Evershine Enterprise Co.

• Fine Furniture (Shanghai) Ltd.*

• Fortune Furniture Ltd.,* Dongguan Fortune Furniture Ltd.*

• Foshan Guanqiu Furniture Co., Ltd.*

• Fujian Lianfu Forestry Co., Ltd.,* a.k.a. Fujian Wonder Pacific Inc. (Dare Group)*

• Furnmart Ltd.*

• Fuzhou Huan Mei Furniture Co., Ltd. (Dare Group)*

• Gaomi Yatai Wooden Ware Co., Ltd.,* Team Prospect International Ltd.,* Money Gain International Co.*

• Garri Furniture (Dong Guan) Co., Ltd.,* Molabile International, Inc.,* Weei Geo Enterprise Co., Ltd.*

• Golden Well International (HK), Ltd.

• Green River Wood (Dongguan) Ltd.*

• Guangdong New Four Seas Furniture Manufacturing Ltd.*

• Guangdong Yihua Timber Industry Co., Ltd.

• Guangming Group Wumahe Furniture Co., Ltd.*

• Guangzhou Lucky Furniture Co. Ltd.*

• Guangzhou Maria Yee Furnishings Ltd.,* Pyla HK, Ltd.,* Maria Yee, Inc.*

• Hainan Jong Bao Lumber Co., Ltd.,* Jibbon Enterprise Co., Ltd.*

• Hamilton & Spill Ltd.*

• Hang Hai Woodcraft's Art Factory*

• Hong Yu Furniture (Shenzhen) Co. Ltd.

• Hualing Furniture (China) Co., Ltd.,* Tony House Manufacture (China) Co., Ltd.,* Buysell Investments Ltd.,* Tony House Industries Co., Ltd.*

• Hung Fai Wood Products Factory, Ltd.*

• Hwang Ho International Holdings Limited*

• Inni Furniture*

• Jardine Enterprise, Ltd.*

• Jiangmen Kinwai Furniture Decoration Co., Ltd.*

• Jiangmen Kinwai International Furniture Co., Ltd.*

• Jiangsu Dare Furniture Co., Ltd. (Dare Group)*

• Jiangsu Weifu Group Fullhouse Furniture Manufacturing. Corp.*

• Jiangsu XiangSheng Bedtime Furniture Co., Ltd.*

• Jiangsu Yuexing Furniture Group Co., Ltd.*

• Jiedong Lehouse Furniture Co., Ltd.*

• Kalanter (Hong Kong) Furniture Company Limited*

• King Kei Furniture Factory,* King Kei Trading Co., Ltd.,* Jiu Ching Trading Co., Ltd.*

• King Wood Furniture Co., Ltd.*

• King's Way Furniture Industries Co., Ltd.,* Kingsyear Ltd.*

• Kuan Lin Furniture (Dong Guan) Co., Ltd.,* Kuan Lin Furniture Factory,* Kuan Lin Furniture Co., Ltd.*

• Kunshan Lee Wood Product Co., Ltd.*

• Kunshan Summit Furniture Co., Ltd.*

• Kunwa Enterprise Company

• Langfang Tiancheng Furniture Co., Ltd.*

• Leefu Wood (Dongguan) Co., Ltd.,* King Rich International, Ltd.*

• Link Silver Ltd. (V.I.B.),* Forward Win Enterprises Co. Ltd.,* Dongguan Haoshun Furniture Ltd.*

• Locke Furniture Factory,* Kai Chan Furniture Co., Ltd.,* Kai Chan (Hong Kong) Enterprise Ltd.,* Taiwan Kai Chan Co., Ltd.*

• Longrange Furniture Co., Ltd.*

• Macau Youcheng Trading Co.,* Zhongshan Youcheng Wooden Arts & Crafts Co., Ltd.*

• Meikangchi (Nantong) Furniture Company Ltd.*

• MoonArt Furniture Group, MoonArt International Inc.

• Nanhai Baiyi Woodwork Co., Ltd.*

• Nanhai Jiantai Woodwork Co., Ltd.,* Fortune Glory Industrial Ltd. (H.K. Ltd.)*

• Nanjing Jardine Enterprise Ltd.

• Nanjing Nanmu Furniture Co., Ltd.*

• Nantong Dongfang Orient Furniture Co., Ltd.*

• Nantong Yangzi Furniture Co., Ltd.*

• Nantong Yushi Furniture Co., Ltd.*

• Nathan International Ltd.,* Nathan Rattan Factory*

• Ningbo Furniture Industries Company, Ltd.

• Ningbo Hengrun Furniture Co. Ltd,* Ningbo Furniture Industries Limited,* Ningbo Fubang Furniture Industries Limited, Techniwood Industries Ltd.,* Techniwood (Macao Commercial Offshore) Limited, Ningbo Techniwood Furniture Industries Limited

• Orient International Holding Shanghai Foreign Trade Co., Ltd.*

• Pleasant Wave Ltd.,* Passwell Corporation*

• Passwell Wood Corporation

• Perfect Line Furniture Co., Ltd.*

• Po Ying Industrial Co.*

• Prime Wood International Co., Ltd,* Prime Best International Co., Ltd.,* Prime Best Factory,* Liang Huang (Jiaxing) Enterprise Co., Ltd.*

• Profit Force Ltd.*

• PuTian JingGong Furniture Co., Ltd.*

• Hong Kong Jingbi Group

• Qingdao Beiyuan-Shengli Furniture Co., Ltd.,* Qingdao Beiyuan Industry Trading Co. Ltd.*

• Qingdao Liangmu Co., Ltd.*

• Qingdao Shengchang Wooden Co., Ltd*

• Restonic (Dongguan) Furniture Ltd.,* Restonic Far East (Samoa) Ltd.*

• RiZhao SanMu Woodworking Co., Ltd.*

• Dorbest Ltd.,* Rui Feng Woodwork Co., Ltd.,* Rui Feng Lumber Development Co., Ltd.,* a.k.a. Dorbest Limited,* Rui Feng Woodwork (Dongguan) Co., Ltd.,* Rui Feng Lumber Development (Shenzen) Co., Ltd.*

• Season Furniture Manufacturing Co.,* Season Industrial Development Co.*

• Sen Yeong International Co., Ltd.,* Sheh Hau International Trading Ltd.*

• Shanghai Aosen Furniture Co., Ltd.*

• Shanghai Fangjia Industry Co., Ltd.

• Shanghai Jian Pu Export & Import Co., Ltd.*

• Shanghai Maoji Imp and Exp Co., Ltd.*

• Shanghai Season Industry & Commerce Co., Ltd.

• Sheng Jing Wood Products (Beijing) Co., Ltd.,* Telstar Enterprises Ltd.*

• Shenyang Kunyu Wood Industry Co., Ltd.*

• Shenyang Shining Dongxing Furniture Co., Ltd.*

• Shenzhen Dafuhao Industrial Development Co., Ltd.*

• Shenzhen Forest Furniture Co., Ltd.*

• Shenzhen Jiafa High Grade Furniture Co., Ltd.,* Golden Lion International Trading Ltd.*

• Shenzhen New Fudu Furniture Co., Ltd.*

• Shenzhen Shen Long Hang Industry Co., Ltd.*

• Shenzhen Tiancheng Furniture Co., Ltd.,* Winbuild Industrial Ltd.,* Red Apple Furniture Co., Ltd.,* Red Apple Trading Co., Ltd.*

• Shenzhen Wonderful Furniture Co., Ltd.*

• Shenzhen Xiande Furniture Factory*

• Shenzhen Xingli Furniture Co., Ltd.*

• Shing Mark Enterprise Co., Ltd.,* Carven Industries Limited (BVI),* Carven Industries Limited (HK),* Dongguan Zhenxin Furniture Co., Ltd.,* Dongguan Yongpeng Furniture Co., Ltd.*

• Shun Feng Furniture Co., Ltd.*

• Sino Concord International Corporation*

• Songgang Jasonwood Furniture Factory,* Jasonwood Industrial Co., Ltd. S.A.*

• Starcorp Furniture Co., Ltd., Starcorp Furniture (Shanghai) Co., Ltd., Orin Furniture (Shanghai) Co. Ltd., Shanghai Star Furniture Co., Ltd., Shanghai XingDing Furniture Industrial Co., Ltd.

• Starwood Furniture Manufacturing Co. Ltd.*

• Starwood Industries Ltd.*

• Strongson Furniture (Shenzhen) Co., Ltd.,* Strongson Furniture Co., Ltd.,* Strongson (HK) Co.*

• Sunforce Furniture (Hui -Yang) Co., Ltd.,* Sun Fung Wooden Factory,* Sun Fung Co.,* Shin Feng Furniture Co., Ltd.,* Stupendous International Co., Ltd.*

• Superwood Co., Ltd.,* Lianjiang Zongyu Art Products Co., Ltd.*

• T.J. Maxx International Co., Ltd.

• Tarzan Furniture Industries Ltd.,* Samso Industries Ltd.*

• Teamway Furniture (Dong Guan) Co. Ltd.,* Brittomart Inc.*

• Tianjin First Wood Co., Ltd.*

• Tianjin Fortune Furniture Co., Ltd.*

• Tianjin Master Home Furniture*

• Tianjin Phu Shing Woodwork Enterprise Co., Ltd.*

• Tianjin Sande Fairwood Furniture Co., Ltd.

• Top Art Furniture Factory, Sanxiang Top Art Furniture, Ngai Kun Trading

• Top Goal Development Co.*

• Tradewinds Furniture Ltd.,* Fortune Glory Industrial Limited*

• Tradewinds International Enterprise Ltd.

• Transworld (Zhangzhou) Furniture Co. Ltd.*

• Tube-Smith Enterprise (Zhangzhou) Co., Ltd.,* Tube-Smith Enterprise (Haimen) Co., Ltd.,* Billionworth Enterprises Ltd.*

• Union Friend International Trade Co., Ltd.*

• U-Rich Furniture (Zhangzhou) Co., Ltd.,* U-Rich Furniture Ltd.*

• Wan Bao Chen Group Hong Kong Co. Ltd.*

• Wanhengtong Nueevder (Furniture) Manufacture Co., Ltd.,* Dongguan Wanengtong Industry Co., Ltd.*

• Winmost Enterprises Limited*

• Winny Overseas, Ltd.*

• Woodworth Wooden Industries (Dong Guan) Co., Ltd.*

• World Design International Co., Ltd.

• Xiamen Yongquan Sci-Tech Development Co., Ltd.*

• Xilinmen Group Co. Ltd.

• Xingli Arts & Crafts Factory of Yangchun*

• Yangchen Hengli Co., Ltd.*

• Yeh Brothers World Trade, Inc.*

• Yichun Guangming Furniture Co., Ltd.*

• Yida Co., Ltd.,* Yitai Worldwide, Ltd.,* Yili Co., Ltd.,* Yetbuild Co., Ltd.*

• Yihua Timber Industry Co., Ltd.*

• Yongxin Industrial (Holdings) Limited*

• Zhang Zhou Sanlong Wood Product Co., Ltd.*

• Zhangjiagang Daye Hotel Furniture Co., Ltd.*

• Zhangjiagang Zheng Yan Decoration Co., Ltd.*

• Zhangjiang Sunwin Arts & Crafts Co., Ltd.*

• Zhangzhou Guohui Industrial & Trade Co. Ltd.*

• Zhangzhou XYM Furniture Product Co., Ltd.

• Zhong Cheng Furniture Co., Ltd.*

• Zhong Shan Fullwin Furniture Co., Ltd.*

• Zhongshan Fookyik Furniture Co., Ltd.*

• Zhongshan Gainwell Furniture Co. Ltd.*

• Gainwell Industries Limited, Zhongshan Yiming Furniture Co., Ltd., Zhongshan Fengheng Furniture Co., Ltd., Guangdong Gainwell Industrial Furniture Co., Ltd., Northeast Lumber Co., Ltd.

• Zhongshan Golden King Furniture Industrial Co., Ltd.*

• Zhoushan For-Strong Wood Co., Ltd.*

* These companies received a separate rate in the most recent segment of this proceeding in which they participated.

Countervailing Duty Proceedings

None.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

This initiation and notice are in accordance with section 751(a) of the Act (19 USC 1675(a)), and 19 CFR 351.221(c)(1)(i).

Dated: February 20, 2009.
John M. Andersen,
Acting Deputy Assistant Secretary for Antidumping and Countervailing Duty Operations.

[FR Doc. E9-4129 Filed 2-25-09; 8:45 am]

BILLING CODE 3510-DS-S